DEPARTMENT OF COMMERCE

Foreign-Trade Zones Board

[Docket 13-2006]

Foreign-Trade Zone 230—Piedmont Triad Area, North Carolina Application for Expansion

An application has been submitted to the Foreign-Trade Zones (FTZ) Board (the Board) by the Piedmont Triad Partnership, grantee of FTZ 230, requesting authority to expand its zone in the Piedmont Triad area adjacent to the Winston-Salem Customs port of entry. The application was submitted pursuant to the provisions of the Foreign-Trade Zones Act, as amended (19 U.S.C. 81a-81u), and the regulations of the Board (15 CFR part 400). It was formally filed on April 7, 2006.

FTZ 230 was approved on March 11, 1998 (Board Order 956, 63 FR 13836, 3/23/98). The zone project currently consists of six sites (3,831 acres) in the Piedmont Triad area: Site 1 (188 acres)—within the 206-acre Lexington Business Center, Hargrave Road and Business Interstate 5, Lexington (Davidson County); Site 2 (2,800 acres)—Piedmont Triad International Airport, adjacent to U.S. 68 and U.S. 421, Greensboro (Guilford County); Site 3 (267 acres, 3 parcels)—within the East High Point I-85/I-74 Industrial Corridor in High Point (Davidson County): Parcel 1 (47 acres)—located at Elon Place and Kivett Drive; Parcel 2 (110 acres)—located at 3301-3334 Kivett Drive; and, Parcel 3 (110 acres)—Kivett Drive Industrial Park, Kivett Drive and I-85; Site 4 (78 acres)—Salem Business Park, Interstate 40, U.S. Highway 52 and U.S. Highway 311, Winston-Salem (Forsyth County); Site 5 (125 acres)—Westwood Industrial Park, adjacent to U.S. Highway 52, Mt. Airy (Surry County); and, Site 6 (373 acres)—Mount Airy-Surry County Industrial Park, McKinney Road, Mt. Airy.

The applicant is now requesting authority to expand the zone to include ten sites (517 acres) in the area: Proposed Site 7 (131 acres)—SouthPoint Business Park, 125 Quality Drive, Mocksville (Davie County); Proposed Site 8 (9 acres, 2 parcels)—TST Logistics warehouse facilities located at 533 North Park Avenue (Site 8A—7 acres) and 673 Gilmer Street (Site 8B—2 acres) in Burlington (Alamance County); Proposed Site 9 (107 acres)—within the 112-acre Piedmont Corporate Park, located on National Service Road which runs parallel to Interstate 40, High Point (Guilford County); Proposed Site 10 (149 acres)—within the 163-acre Premier Center located on NC Highway 68 at the intersection of Premier Drive and Interstate 40, High Point; Proposed Site 11 (32 acres)—Eagle Hill Business Park consists of four lots located at 4183, 4189, 4193 and 4197 Eagle Hill Drive, High Point; Proposed Site 12 (39 acres)—Federal Ridge Business Park consists of six lots located at 4300, 4328, 4336, 4344, 4380 and 4388 Federal Drive, High Point; Proposed Site 13 (23 acres)—Green Point Business Park consists of four lots located at 4500, 4501, 4523 and 4524 Green Point Drive, High Point; Proposed Site 14 (21 acres)—Lowell's Run located at 4487 Premier Drive, High Point; Proposed Site 15 (4 acres)—TST Logistics warehouse facility, 1941 Haw River Hopedale Road, Haw River (Alamance County); and, Proposed Site 16 (2 acres)—TST Logistics warehouse facility, 821 West Center Street, Mebane (Alamance County).

The applicant is also requesting authority to remove Site 3-Parcel 2 (110 acres) from zone status due to changed circumstances (new Site 3 total—157 acres). No specific manufacturing requests are being made at this time. Such requests would be made to the Board on a case-by-case basis.

In accordance with the Board's regulations, a member of the FTZ Staff has been designated examiner to investigate the application and report to the Board.

Public comment on the application is invited from interested parties. Submissions (original and 3 copies) shall be addressed to the Board's Executive Secretary at one of the following addresses:

1. Submissions via Express/Package Delivery Services: Foreign-Trade Zones Board, U.S. Department of Commerce, Franklin Court Building-Suite 4100W, 1099 14th Street, NW., Washington, DC 20005; or,

2. Submissions via the U.S. Postal Service: Foreign-Trade Zones Board, U.S. Department of Commerce, FCB-Suite 4100W, 1401 Constitution Avenue, NW., Washington, DC 20230.

The closing period for their receipt is June 19, 2006. Rebuttal comments in response to material submitted during the foregoing period may be submitted during the subsequent 15-day period (to July 3, 2006).

A copy of the application and accompanying exhibits will be available during this time for public inspection at the Office of the Foreign-Trade Zones Board's Executive Secretary at the first address listed above, and at the U.S. Department of Commerce, Export Assistance Center, 342 North Elm Street, First Floor, Greensboro, NC 27401.

Dated: April 7, 2006.
Dennis Puccinelli,
Executive Secretary.

[FR Doc. E6-5777 Filed 4-17-06; 8:45 am]

BILLING CODE 3510-DS-P